DEPARTMENT OF THE INTERIOR

Bureau of Indian Affairs

Proclaiming Certain Lands as an Addition to the Confederated Tribes of the Chehalis Reservation, Washington

AGENCY: Bureau of Indian Affairs, Interior.

ACTION: Notice of reservation Proclamation.

SUMMARY: This notice informs the public that the Assistant Secretary—Indian Affairs proclaimed approximately 213.73 acres, more or less, to be added to the Chehalis Indian Reservation, Washington.

FOR FURTHER INFORMATION CONTACT: Ben Burshia, Bureau of Indian Affairs, Division of Real Estate Services, Mail Stop-4639-MIB, 1849 C Street, NW., Washington, DC 20240, telephone (202) 208-7737.

SUPPLEMENTARY INFORMATION: This notice is published in the exercise of authority delegated by the Secretary of the Interior to the Assistant Secretary—Indian Affairs by part 209 of the Departmental Manual.

A proclamation was issued according with section 7 of the Act of June 18, 1934 (48 Stat. 986; 25 U.S.C. 467), for the lands described below. The land was proclaimed to be an addition to and part of the Chehalis Indian Reservation for the exclusive use of Indians on that reservation who are entitled to reside at the reservation by enrollment or tribal membership.

Confederated Tribes of the Chehalis Indian Reservation

Grays Harbor County, State of Washington

130-T1168

Parcel A

The East 670 feet of that portion of the Northeast Quarter of the Southeast Quarter of Section 34, Township 16 North, Range 4 West of the Willamette Meridian, lying Southerly of the Southerly margin of State Road No. 9 (now State Road No. 12); AND the South Half of the Southeast Quarter, Section 34, Township 16 North, Range 4 West of the Willamette Meridian;

Except County Road;

And Except that portion deeded to State of Washington by Warranty Deed dated March 13, 1985, recorded April 22, 1985, under Auditor's File No. 850422081, records of Grays Harbor County;

And Except that portion deeded to the State of Washington by Warranty Deed dated December 15, 1989, recorded January 22, 1990 under Auditor's File No. 900123052, records of Grays Harbor County, situated in the County of Grays Harbor, Washington.

Containing 86.01 acres more or less.

Parcel B

All that portion of the East 2/3rds of the Northwest Quarter of the Southeast Quarter of Section 34, Township 16 North, Range 4 West of the Willamette Meridian lying Southerly of State (U.S.) Highway 12, situated in the County of Grays Harbor, Washington.

Containing 11.10 acres more or less.

130-T1183

That portion of the abandoned Union Pacific Railroad, in varying width, over and across the following property:

Government Lots 5, 6, 7 and 8, Section 10, Township 15 North, Range 4 West of the Willamette Meridian;

Government Lots 1, 2 and 3; The Northeast Quarter of the Northwest Quarter, Section 9, Township 15 North, Range 4 West of the Willamette Meridian;

Government Lots 7 and 8, Section 4, Township 15 North, Range 4 West of the Willamette Meridian;

Government Lots 8 and 9, Section 5, Township 15 North, Range 4 West of the Willamette Meridian, situated in the County of Grays Harbor, Washington.

Containing 37.81 acres, more or less.

130-T1184

The Northeast Quarter of the Southeast Quarter of Section 34, Township 16 North, Range 4 West of the Willamette Meridian, lying South of State Highway No. 9 (now State Highway No. 12);

Except the East 670 feet thereof;

And Except that portion conveyed to the State of Washington by Warranty Deed recorded February 11, 1985, under Auditor's File No. 850211040, situated in the County of Grays Harbor, Washington.

Containing 7.05 acres, more or less.

130-T1185

Lot 8, Block 11, Brewer's Addition to the Town of Oakville, as per plat recorded in Volume 1 of Plats, page 191;

Also Lot 8, Plat of Line Addition to Oakville, as per plat recorded in Volume 4 of Plats, page 3, records of Grays Harbor County;

Also the West ½ of Third Street North of Oak Street adjacent to Lot 8, Block 11, Brewer's Addition to Oakville;

Also the East ½ of Third Street North of Oak Street adjacent to Lot 5, Block 12, Brewer's Addition to Oakville;

All situated in the County of Grays Harbor, Washington.

Containing 0.44 acre, more or less.

Confederated Tribes of the Chehalis Indian Reservation

Willamette Principal Meridian, Thurston County, Washington

130-T1170

That portion of Tract 27 of Western Irrigation Land Company Second Farm Tracts, as recorded in Volume 8 of Plats, page 81, lying Southerly and Easterly of Case Road S.W. in Thurston County, Washington.

Containing 0.936 acre, more or less.

130-T1182

Parcel A

Parcel 28 of land described in the deed to Herbrand-Mcgowan Timber Company, a Washington General Partnership under Recording No. 9212230303, and set forth therein as follows:

A piece or parcel of land, being all those parts of the Westerly portion of Lot 7, Section 11, Township 15 North, Range 4 West of the Willamette Principal Meridian, Thurston County, Washington, that lies within 100 feet on each side of the centerline of the railway of the Grays Harbor and Puget Sound Railway Company, now known as, the Union Pacific Railroad Company, as the same is now surveyed, located and staked out, over and across said portion of said Lot 7 of Section 11, said center line, being more particularly described as follows, to wit:

Commencing at a point on the west line of said Section 11, 1932.5 feet, more or less, northerly of the southwest corner of said Section 11; thence north 76°37′ east, a distance of 1363.8 feet, more or less, to the west line of Lot 7, which is the true point of beginning;

Thence continuing north 76°37′ east, a distance of 477 feet to the west boundary line of Parcel 32, described above;

Except any portion lying easterly of the west line of Independence Road.

Parcel B

A piece of land, being all those parts of Government Lot 6, Section 11, Township 15 North, Range 4 West of the Willamette Principal Meridian, Thurston County, Washington, that lies within 100 feet on each side of the centerline of the railway of the Grays Harbor and Puget Sound Railway Company, now known as, the Union Pacific Railroad Company, as the same is now staked, located and staked out, over and across said portion of said Lot 6 of Section 11, said center line, being more particularly described as follows, to wit:

Beginning at a point on the west line of said Section 11, 1932.5 feet, more or less, Northerly of the Southwest corner of said Section 11;

Thence North 76° 37′ East, a distance of 1363.8 feet, more or less, to the East line of Lot 6;

Containing 7.4 acres, more or less.

130-T1193

That part of Tract 10 lying Southerly of Primary State Highway No. 9 and that part of Tract 11 of Farmdale Addition to Gate City, as recorded in Volume 6 of Plats, page 19, lying in the North half of the South half of the Southwest quarter of Section 35, Township 16 North, Range 4 West, W.M., together with that part of vacated street lying between said lots;

And Excepting Therefrom county road known as Anderson Road along the West boundary of said property.

Also Excepting that portion of said premises lying Easterly of a line described as follows: Beginning at the Northeast corner of said Tract 10; thence North 88°09′35″ West 489.76 feet along the North line of said Tract 10; thence South 904.56 feet to the Southerly right of way line of Primary State Highway No. 12-E and the true point of beginning; thence South 08°54′05″ West 236.47 feet, South 18° 20′15″ West 244.74 feet, South 15°15′05″ West 127.84 feet, South 06°24′25″ East 53.49 feet, South 16°32′10″ East 146.73 feet, South 18°22′40″ East to the South line of the North half of the South half of the Southwest quarter of said Section 35, and the terminus of said line.

Also Excepting those portions deeded to the State of Washington for highway purposes, by deeds recorded under Auditor's File Nos. 8910250087 and 9102210063.

Also Excepting those portions conveyed to Thurston County by Deeds recorded August 28, 2002 and May 12, 2003, under File Nos. 3457969 and 3530786.

In Thurston County, Washington.

Containing 20 acres, more or less.

130-T1205

That part of the Northwest Quarter of Section 13, Township 15 North, Range 3 West, W.M., lying easterly of Old Pacific Highway and Westerly of the Chehalis Western Railroad Company right-of-way (Chicago, Milwaukee, St. Paul and Pacific Railroad right-of-way).

Situated in Thurston County, Washington.

Containing 42.99 acres, more or less.

The above-described lands contain a total of 213.73 acres, more or less, which is subject to all valid rights, reservations, rights-of-way, and easements of record.

This proclamation does not affect: (1) Title to the lands described above; (2) any valid existing easements for public roads and highways or public utilities; (3) any valid existing easements for railroads and pipelines; or (4) any other rights-of-way or reservations of record.

Dated: March 9, 2010.
Del Laverdure,
Deputy Assistant Secretary—Indian Affairs.

[FR Doc. 2010-5696 Filed 3-15-10; 8:45 am]

BILLING CODE 4310-W7-P